DEPARTMENT OF JUSTICE

Notice of Lodging of Consent Decree Under the Comprehensive Environmental Response, Compensation and Liability Act (CERCLA)

In accordance with Departmental Policy, 28 U.S.C. 50.7, notice is hereby given that on February 11, 2004, a proposed Consent Decree in United States v. Sporting Goods Properties, Inc., Civil Action No. 3:04 CV 242 (PCD), was lodged with the United States District Court for the District of Connecticut.

In this action, the United States sought recovery for natural resource damages relating to the release of hazardous substances, including lead, and lead shot, at the site known as the Remington Gun Club—Lordship Point Gun Club Site, located in Stratford, Connecticut (“the Site”). The United States filed its complaint pursuant to section 107(a) of the Comprehensive Environmental Response, Compensation and Liability Act (“CERCLA”), 42 U.S.C. 9607(a), seeking recovery of all damages resulting from injuries to natural resources related to the Site, and the reasonable costs incurred in assessing such injuries. The complaint names defendant sporting Goods Properties, Inc. as the current owner of the Site and as the owner at the time of the release of hazardous substances. Sporting Goods Properties, Inc. was known as the Remington Arms Company, Inc. before November 30, 1993. The proposed Consent Decree resolves the United States' natural resource damage claims against Sporting Goods Properties, Inc. Under the proposed Decree, the settling defendant agrees to pay approximately $250,000 in compensation for natural resource damages, and reimbursement for assessment costs. In addition, the settling defendant is required to install an indigenous grassland community at the Site.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Sporting Goods Properties, Inc., D.J. Ref. 90-11-2-06638.

The proposed Consent Decree may be examined at the Office of the United States Attorney, Connecticut Financial Center, New Haven, CT. During the public comment period, the Consent Decree may also be examined on the following Department of Justice Web site, http://www.usdoj.gov/enrd/open.html. A copy of the proposed Consent Decree may also be obtained by mail from the Consent Decree Library, P.O. Box 7611, U.S. Department of Justice, Washington, D.C. 20044-7611 or by faxing or e-mailing a request to Tonia Fleetwood (tonia.fleetwood@usdoj.gov), fax no. (202) 514-0097, phone confirmation no. (202) 514-1547. In requesting a copy from the Consent Decree Library, without the attachments, please enclose a check in the amount of $7.25 (25 cents per page reproduction cost) payable to the U.S. Treasury.

Ronald Gluck,
Assistant Chief, Environmental Enforcement Section, Environment and Natural Resources Division.

[FR Doc. 04-4214 Filed 2-25-04; 8:45 am]

BILLING CODE 4410-15-M